DEPARTMENT OF HEALTH AND HUMAN SERVICES

Indian Health Service

Request for Public Comment: 30-Day Notice for Extension of the Indian Health Service Loan Repayment Program (LRP)

AGENCY: Indian Health Service, HHS.

ACTION: Notice and request for comments. Request for extension of approval.

SUMMARY: In compliance with the Paperwork Reduction Act of 1995 (PRA), the Indian Health Service (IHS) invites the general public to take this opportunity to comment on the information collection Office of Management and Budget (OMB) Control Number 0917-0014, titled, “IHS Loan Repayment Program (LRP).” The IHS is requesting OMB to approve an extension for this collection, which expires on November 30, 2021. Notice regarding the information collection was last published in the Federal Register (86 FR 43257) on August 6, 2021, and allowed 60 days for public comment. The purpose of this notice is to announce the IHS' intent to submit this collection to OMB and to allow 30 days for public comment to be submitted directly to OMB.

DATES: Consideration will be given to all comments received by November 29, 2021.

Direct Your Comments To OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Evonne Bennett, Information Collection Clearance Officer at: Evonne.Bennett@ihs.gov or 301-443-4750.

SUPPLEMENTARY INFORMATION: This previously approved information collection project was last published in the Federal Register (86 FR 43257) on August 6, 2021, and allowed 60 days for public comment. No public comment was received in response to the notice. This notice announces our intent to submit this collection, which expires November 30, 2021, to OMB for approval of an extension and to allow 30 days for public comment to be submitted directly to OMB.

The IHS is submitting the proposed information collection to OMB for review, as required by the Paperwork Reduction Act of 1995, as amended, and its implementing regulations. This notice is soliciting comments from members of the public and affected agencies as required by 44 U.S.C. 3507 and 5 CFR 1320.10 concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Title: 0917-0014, “Indian Health Service Loan Repayment Program.”

Type of Information Collection Request: Three-year extension approval of this information collection.

OMB Control Number: 0917-0014.

Forms: Educational and Professional Background, Financial Information, and General Applicant Information (i.e., all forms are part of the LRP application). The LRP application is available in an electronically fillable and fileable format.

Need and Use of Information Collection: The IHS LRP identifies health professionals with pre-existing financial obligations for education expenses that meet program criteria and who are qualified and willing to serve at, often remote, IHS health care facilities. Under the program, eligible health professionals sign a contract through which the IHS agrees to repay part or all of their indebtedness in exchange for an initial two-year service commitment to practice full-time at an eligible Indian health program. This program is necessary to augment the critically low health professional staff at IHS health care facilities.

Eligible health professionals wishing to have their health education loans repaid may apply to the IHS LRP. A two-year contract obligation is signed by both parties, and the individual agrees to work at an eligible Indian health program location and provide health services to American Indian and Alaska Native individuals.

The information collected via the on-line application from individuals is analyzed and a score is given to each applicant. This score will determine which applicants will be awarded each fiscal year. The administrative scoring system assigns a score to the geographic location according to vacancy rates for that fiscal year and also considers whether the location is in an isolated area. When an applicant accepts employment at a location, the applicant in turn “picks-up” the score of that location.

Status of the Proposed Information Collection: Renewal of a current collection.

Affected Public: Individuals and households.

Type of Respondents: Individuals.

The table describes: Data collection instruments, estimated number of respondents, number of responses per respondent, average burden per response, and total annual burden hour(s).

Estimated Burden Hours: Data collection instrument(s) | Estimated Burden Hours: Number of respondents | Estimated Burden Hours: Number of responses per respondent | Estimated Burden Hours: Average burden per response (in hours) | Estimated Burden Hours: Total annual responses (in hours)
LRP Application | 1999 | 1 | 1.5 | 2998.5

There are no Capital Costs, Operating Costs, and/or Maintenance Costs to report.

Elizabeth A. Fowler,
Acting Director, Indian Health Service.

[FR Doc. 2021-23629 Filed 10-28-21; 8:45 am]

BILLING CODE 4165-16-P